FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 011426-058.

Title: West Coast of South America Discussion Agreement.

Parties: CMA CGM S.A.; Frontier Liner Services, Inc.; Hamburg-Süd; Hapag-Lloyd AG; King Ocean Services Limited, Inc.; Mediterranean Shipping Company, SA; Seaboard Marine Ltd.; and Trinity Shipping Line.

Filing Party: Wayne R. Rohde, Esq.; Cozen O'Conner; 1627 I Street NW., Suite 1100; Washington, DC 20006-4007.

Synopsis: The amendment deletes Compania Chilena de Navegacion, S.A. and Norasia Container Lines Limited as parties to the agreement.

Agreement No.: 201217-002.

Title: Port of Long Beach Data Services Agreement.

Parties: Port of Long Beach; PierPass LLC.; Long Beach Container Terminal, Inc.; SSA Terminals, LLC; SSA Terminal (Long Beach), LLC; International Transportation Service, Inc.; Pacific Maritime Services, L.L.C.; and Total Terminals, LLC.

Filing Party: Charles Parkin, Esq.; City of Long Beach; 333 W. Ocean Boulevard, 11th Floor; Long Beach, CA; 90802.

Synopsis: The amendment would extend the agreement term and adjust the compensation provided for in the agreement. The parties have requested expedited review.

By Order of the Federal Maritime Commission.
Dated: July 17, 2015.
Rachel E. Dickon,
Assistant Secretary.

[FR Doc. 2015-17998 Filed 7-21-15; 8:45 am]

BILLING CODE 6731-AA-P